DEPARTMENT OF HEALTH AND HUMAN SERVICES

Administration for Community Living; Notice of Federal Review of the Puerto Rico State Council on Developmental Disabilities (SCDD) and the Protection and Advocacy System (P&A)

AGENCY: Administration for Community Living, HHS.

ACTION: Notice.

SUMMARY: Representatives of the Administration on Intellectual and Developmental Disabilities (AIDD), Administration for Community Living (ACL), will be conducting a federal review of the Puerto Rico State Council on Developmental Disabilities (SCDD) and the Protection and Advocacy System (P&A) on September 17-21, 2018.

AIDD is soliciting comments from interested parties on your experiences with the work, program, and strategies employed by P&A and SDCC in meeting the needs of individuals with developmental disabilities and their families in Puerto Rico. You are encouraged to share your experiences by way of any of the following methods:

Email: Clare.huerta@acl.hhs.gov.

Telephone: 202-795-7301.

Mail Comments To: Clare Huerta, Program Specialist, Administration on Intellectual and Developmental Disabilities, Administration for Community Living, 330 C Street SW, 1st Floor, Washington, DC 20201.

Comments should be received by September 10, 2018 in order to be included in the final report.

FOR FURTHER INFORMATION CONTACT: Clare Barnett Huerta, Administration for Community Living, Administration on Intellectual and Developmental Disabilities, Office of Program Support, 330 C Street SW, 1st Floor, Washington, DC 20201, 202-795-7301.

Dated: July 12, 2018.
Mary Lazare,
Principal Deputy Administrator.

[FR Doc. 2018-15905 Filed 7-24-18; 8:45 am]

BILLING CODE 4154-01-P